DEPARTMENT OF COMMERCE

National Oceanic and Atmospheric Administration

[I.D. 052901B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) will hold a work session, which is open to the public.

DATES: The HMSPDT will meet on Wednesday, June 20, 2001, 8 a.m. to 5 p.m.; Thursday, June 21, 2001, 8 a.m. to 5 p.m.; and Friday, June 22, 2001, 8 a.m. until business for the day is completed.

ADDRESSES: The work session will be held in the large conference room at the NMFS Southwest Fisheries Science Center, 8604 La Jolla Shores Drive, Room D-203, La Jolla, CA 92038-0271; telephone: (619) 546-7100.

Council address: Pacific Fishery Management Council, 2130 SW Fifth Avenue, Suite 224, Portland, OR 97201.

FOR FURTHER INFORMATION CONTACT: Dan Waldeck, Pacific Fishery Management Council; (503) 326-6352.

SUPPLEMENTARY INFORMATION: The primary purpose of the work session is to revise the draft fishery management plan (FMP) for highly migratory species (HMS) per Council guidance stemming from the June 2001 Council meeting.

Proposed Agenda

Wednesday June 20, 2001, 8 a.m.

A. Call to order

B. Introduction of Team and Advisory Subpanel Members

C. Review and Approval of the Agenda

D. Distribute and Review New HMSPDT Documents

E. Review Executive Summary and Chapters 1, 2, 3, and 4

Thursday, June 21, 2001, 8 a.m.

F. Review of Chapters 5, 6, 7, and 8

Friday, June 22, 2001, 8 a.m.

G. Review of Chapter 9

H. Further Discussion as Needed

I. Report to Council

J. Report to Advisory Subpanel

Adjournment

Although non-emergency issues not contained in the HMSPDT meeting agenda may come before the HMSPDT for discussion, those issues may not be the subject of formal HMSPDT action during this meeting. HMSPDT action will be restricted to those issues specifically listed in this document and any issues arising after publication of this document that require emergency action under section 305 (c) of the Magnuson-Stevens Act, provided the public has been notified of the HMSPDT's intent to take final action to address the emergency.

Special Accommodations

The meeting is physically accessible to people with disabilities. Requests for sign language interpretation or other auxiliary aids should be directed to Ms. Carolyn Porter at (503) 326-6352 at least 5 days prior to the meeting date.

Dated: May 30, 2001.
Richard W. Surdi,
Acting Director, Office of Sustainable Fisheries, National Marine Fisheries Service.

[FR Doc. 01-14124 Filed 6-4-01; 8:45 am]

BILLING CODE 3510-22-S